ENVIRONMENTAL PROTECTION AGENCY

[EPA-HQ-OW-2020-0530, FRL-12078-01-OW]

Agency Information Collection Activities; Proposed Information Collection Request; Comment Request; Information Collection Request Renewal for the Final Unregulated Contaminant Monitoring Rule (UCMR 5)

AGENCY: Environmental Protection Agency (EPA).

ACTION: Notice.

SUMMARY: The Environmental Protection Agency is preparing to submit an information collection request (ICR) renewal, “Information Collection Request Renewal for the Final Unregulated Contaminant Monitoring Rule (UCMR 5)” (EPA ICR Number 2683.03, OMB Control Number 2040-0304) to the Office of Management and Budget (OMB) for review and approval in accordance with the Paperwork Reduction Act. Before doing so, the EPA is soliciting public comments on specific aspects of the proposed information collection as described below. This is a proposed renewal of the original ICR, which is currently approved through January 31, 2025. This notice allows 60 days for public comments.

DATES: Comments must be submitted on or before September 30, 2024.

ADDRESSES: Submit your comments, referencing Docket ID Number EPA-HQ-OW-2020-0530, to EPA online using www.regulations.gov (our preferred method), or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI) or other information whose disclosure is restricted by statute.

FOR FURTHER INFORMATION CONTACT: Brenda Bowden, Standards and Risk Management Division, Office of Ground Water and Drinking Water (MS 140), Environmental Protection Agency, 26 West Martin Luther King Drive, Cincinnati, Ohio 45268; telephone number: (513) 569-7961; email address: bowden.brenda@epa.gov.

SUPPLEMENTARY INFORMATION: This is a proposed renewal of the original ICR, which is currently approved through January 31, 2025. An agency may not conduct or sponsor and a person is not required to respond to a collection of information unless it displays a currently valid OMB control number.

This notice allows 60 days for public comments. Supporting documents, which explain in detail the information that the EPA will be collecting, are available in the public docket for this ICR renewal. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR renewal as appropriate. The final ICR renewal package will then be submitted to OMB for review and approval. At that time, the EPA will issue another Federal Register notice to announce the submission of the ICR renewal to OMB and the additional opportunity to submit comments to OMB.

Abstract: Section 1445(a)(2) of the Safe Drinking Water Act (SDWA) requires that once every five years, beginning in 1999, the EPA issue a new list of not more than 30 priority unregulated contaminants in drinking water to be monitored by public water systems (PWSs). Information collected under the program informs the EPA's decision making regarding whether or not to regulate particular contaminants in drinking water. UCMR 5 requires sample collection for 30 chemical contaminants and was published in the Federal Register on December 27, 2021 (86 FR 73131). This information collection does not require respondents to disclose confidential information.

Form Numbers: None.

Respondents/affected entities: Data associated with this ICR renewal will be collected and maintained by PWSs subject to the rule. UCMR is a federally implemented program; however, States, territories, and Tribes (herein after referred to as “States” for simplicity) can choose to participate in UCMR 5 implementation through a voluntary Partnership Agreement with the EPA to help administer this regulatory program. Partnering States will sometimes collect samples and maintain records.

Respondent's obligation to respond: Mandatory. The information collection is carried out per Section 1445(a) of SDWA.

Estimated number of respondents: Approximately 3,493 respondents (total among PWSs and States) participate in UCMR 5 during the ICR renewal years 2025-2027. There are approximately 10,367 respondents to UCMR 5 during the full five-year program period.

Frequency of response: The frequency and number of responses varies across respondents. PWSs that rely on surface water and ground water under the direct influence of surface water will sample quarterly (four sampling events), and PWSs that rely on ground water will sample twice (at 6-month intervals). All sample collection will take place during a continuous 12-month period during the sampling timeframe. Sample collection for the UCMR 5 contaminants takes place at the entry point to the distribution system. The number of samples collected by PWSs also differs based on the size of the PWS and the number of entry points within each PWS. Over the three ICR renewal years of 2025 through 2027, the total number of responses per respondent averages 3.0, or an average of 1.0 responses per respondent per year.

Total estimated burden: The EPA estimates the labor burden at 21,275.2 hours (per year) during the ICR renewal years of 2025 through 2027 for States and PWSs. Burden is defined at 5 CFR 1320.03(b).

Total estimated cost: During the ICR renewal years of 2025 through 2027, the EPA estimates the total cost for States and PWSs at $5,633,415 (per year), which includes $4,702,003 annualized capital or operation & maintenance costs. The total costs include labor costs and laboratory analysis (non-labor) costs. The EPA pays for the analytical and sample shipping costs for small PWSs (i.e., serving 10,000 or fewer people).

Changes in the Estimates: There is a decrease of 81,579 hours in the total estimated respondent burden for PWSs and States during the ICR renewal years of 2025 through 2027 compared with the original (2022-2024) ICR currently approved by OMB. This decrease is due to:

• Fewer PWSs participate during the ICR renewal period of 2025-2027 than in 2022-2024. Only one-third of PWSs collect samples for UCMR 5 contaminants during the ICR renewal period (in 2025); two-thirds of PWS monitored for UCMR 5 contaminants in 2023 and 2024 (i.e., during the 2022-2024 original ICR period).

• Some initial, pre-monitoring activities were conducted by all systems in 2022 (i.e., during the original ICR period). These activities will not take place during 2025-2027.

• States are expected to incur less burden during 2025-2027, since their support is associated with monitoring and less monitoring is occuring during the renewal period.

Jennifer L. McLain,
Director, Office of Ground Water and Drinking Water.

[FR Doc. 2024-16656 Filed 7-29-24; 8:45 am]

BILLING CODE 6560-50-P